DEPARTMENT OF HEALTH AND HUMAN SERVICES

Centers for Disease Control and Prevention

[Program Announcement 01129]

Cooperative Agreement for the Development, Operation, and Evaluation of an Entertainment Education Program; Notice of Availability of Funds

A. Purpose

The Centers for Disease Control and Prevention (CDC) announces the availability of fiscal year (FY) 2001 funds for a cooperative agreement program for development, operation, and evaluation of an entertainment education program. This program addresses the “Healthy People 2010” focus areas of Health Communications, Physical Activity and Fitness, HIV, Sexually Transmitted Diseases, Injury and Violence Prevention, Diabetes, Immunization and Infectious Diseases and Cancer.

The overall goal of this program is to foster Hollywood leadership support for national public health priorities which include accurate depictions of science for public health action, collaborations for prevention, and promoting accurate depictions of healthy living at all stages of life.

Specific purposes include coordinating strategic placement of public health storylines and messages in entertainment programming including daytime and prime time television dramas; enhancing disease prevention and promotion efforts through entertainment programming that reaches target audiences; providing opportunities to relate the stories of prevention through entertainment programming; providing public health education and training to entertainment industry leaders and creators; recognize exemplary work of entertainment; eliciting the coordination and cooperation of other national, public, private, and voluntary agencies that engage in entertainment education and entertainment industry activities.

B. Eligible Applicants

Applications may be submitted by public and private nonprofit organizations and by governments and their agencies; that is, universities, colleges, research institutions, hospitals, other public and private nonprofit organizations, State and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations.

C. Availability of Funds

Approximately $300,000 is available in FY 2001 to fund one award. It is expected that the award will begin on or about September 30, 2001, and will be made for a 12-month budget period within a project period of up to five years. Funding estimates may vary and are subject to change.

Continuation awards within an approved project period will be made on the basis of satisfactory progress as evidenced by required reports and the availability of funds.

Direct Assistance. You may request equipment as direct assistance, in lieu of a portion of financial assistance.

D. Program Requirements

In conducting activities to achieve the purpose of this program, the recipient will be responsible for the activities under 1., below, and CDC will assist as requested with activities under 2.

1. Recipient Activities:

a. Develop and coordinate technical assistance for health storylines in TV shows.

Establish and maintain a resource guide for TV Writers and Producers which gives details of priority topics for public health storylines (e.g.,tip sheets for web page, CD-ROM, or binder formats).

Target promotion of public health topics as potential storylines to appropriate audience segments. Evaluate audience demographics and match issues to audience potential of specific shows, for example, shows targeting youth of different age groups, shows reaching older adults, shows viewed primarily by women, etc.

Use resource guide to promote priority topics for public health storylines and establish partnerships with entertainment industry writers and producers. Develop and supply as requested a subject matter expert list for priority issues to serve as consultants for TV writers and producers on an as requested basis.

Serve as a point of contact for entertainment industry to develop accurate storylines on public health issues coordinating expert consultants as requested.

b. Foster additional partnerships to promote Entertainment—Education program.

Facilitate presentations of public health topics by expert consultants to other entertainment industry groups, technical advisors, and educational consultants.

Facilitate the development of a special advisory group from industry leaders to consult on best practices for improving educational outcomes through increasing the media awareness of America's youth.

Coordinate recognition of shows that successfully weave public health messages into storylines.

2. CDC Activities:

a. Provide, as requested, a list of public health priorities in terms of the scope and severity of risk and/or burden on public health.

b. As requested, facilitate contact to experts in specific health areas, as well as health communication leaders in key public health positions.

c. Provide, as requested, technical assistance and consultation in the area of program development, implementation, and health communication campaigns.

d. Provide, as requested, technical assistance and consultation in the development of the award/recognition activity.

e. Provide, as requested, technical assistance in defining the scope of activity and requests for the youth-related activities, and all other health-topic specific initiatives.

f. Provide, as requested, technical assistance and direction in development of audience assessments using existing databases (e.g. Healthstyles Survey).

E. Application Content

Use the information in the Program Requirements, Other Requirements, and Evaluation Criteria sections to develop the application content. Your application will be evaluated on the criteria listed, so it is important to follow them in laying out your program plan. The narrative should be no more than 25 double-spaced pages, printed on one side, with one-inch margins, and unreduced font. The narrative should consist of, at a minimum, a Plan, Objectives, Methods, Evaluation and Budget.

F. Submission and Deadline

Application: Submit the original and two copies of PHS 5161-1 (OMB Number 0920-0428). Forms are available in the application kit and at the following Internet address: www.cdc.gov/od/pgo/forminfo.htm

On or before July 31, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late Applications which do not meet the criteria in 1. or 2. above will be returned to the applicant.

G. Evaluation Criteria

Each application will be evaluated individually against the following criteria by an independent review group appointed by CDC.

The application will be evaluated against the following criteria (maximum 100 total points):

1. Background, Need, and Capacity (25 percent): The extent to which the applicant presents data and information documenting the capacity to accomplish the program, positive progress in related past or current activities or programs, and, as appropriate, need for the program. The extent to which the applicant demonstrates a three year history in conducting an Entertainment-Education program, which includes evidence of fruitful contacts with industry leaders, entertainment education scholarship and audience research.

2. Goals and Objectives (15 percent): The extent to which the applicant includes goals that are relevant to the purpose of the proposal and feasible to accomplish during the project period, and the extent to which these are specific and measurable. The extent to which the applicant has included objectives which are feasible to accomplish during the budget period and project period, and which address all activities necessary to accomplish the purpose of the proposal.

3. Methods and Staffing (30 percent): The extent to which the applicant provides: (1) a detailed description of proposed activities which are likely to achieve each objective and overall program goals, and which includes designation of responsibility for each action undertaken; (2) a reasonable and complete schedule for implementing all activities; and (3) a description of the roles of each unit, organization, or agency, and (4) evidence of qualifications, supervision, and degree of commitment of staff, organizations, and agencies involved in activities.

4. Evaluation (10 percent): The extent to which the applicant demonstrates potential data sources for evaluation purposes and methods to evaluate the data sources, and documents staff availability, expertise, experience, and capacity to perform evaluation.

5. Collaboration (20 percent): The extent to which relationships between the program and other organizations and agencies, including entertainment advocacy, industry groups and leaders will relate to the program or conduct related activities are clear, complete, and provide for complementary or supplementary interactions. The extent to which the applicant provides evidence of entertainment advisory capacity within an existing program.

6. Budget and Justification (not scored): The extent to which the applicant provides a detailed budget and narrative justification consistent with stated objectives and planned program activities.

H. Other Requirements

Technical Reporting Requirements

Provide CDC with original plus two copies of:

1. Semiannual progress reports;

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I of the announcement.

AR-5 HIV Program Review Panel Requirements

AR-9 Paperwork Reduction Act Requirements

AR-10 Smoke-Free Workplace Requirements

AR-11 Healthy People 2010

AR-12 Lobbying Restrictions

AR-13 Prohibition on use of CDC Funds for certain Gun Control Activities

AR-14 Accounting System Requirements

AR-15 Proof of Non-Profit Status

I. Authority and Catalog of Federal Domestic Assistance Number

This program is authorized under section 311 and 1704 of the Public Health Service Act, [42 U.S.C. section 311 and 1704], as amended. The Catalog of Federal Domestic Assistance number is 93.283.

J. Where To Obtain Additional Information

This and other CDC announcements can be found on the CDC home page Internet address—http://www.cdc.gov Click on “Funding” then “Grants and Cooperative Agreements.”

To receive additional written information and to request an application kit, call 1-888-GRANTS4 (1-888-472-6874). You will be asked to leave your name and address and will be instructed to identify the Program Announcement number of interest.

If you have questions after reviewing the contents of all the documents, business management technical assistance may be obtained from: Mattie B. Jackson, Grants Management Specialist, Grants Management Branch, Procurement and Grants Office, Centers for Disease Control and Prevention, 2920 Brandywine Road, Room 3000, Atlanta, GA 30341-4146, Telephone number: 770-488-2696, Email address: mij3@cdc.gov.

For program technical assistance, contact: Claudia Parvanta, Ph.D., Director, Division of Health Communication, Centers for Disease Control and Prevention, Mailstop D-25, 1600 Clifton Road, Atlanta, GA 30333, Telephone number: 404-639-7280, Email address: cip0@cdc.gov.

Dated: June 6, 2001.
John L. Williams,
Director, Procurement and Grants Office, Centers for Disease Control and Prevention (CDC).

[FR Doc. 01-14722 Filed 6-11-01; 8:45 am]

BILLING CODE 4163-18-P